NATIONAL AERONAUTICS AND SPACE ADMINISTRATION

[Notice (18-018)]

NASA Advisory Council; Technology, Innovation and Engineering Committee; Meeting

AGENCY: National Aeronautics and Space Administration.

ACTION: Notice of meeting.

SUMMARY: In accordance with the Federal Advisory Committee Act, as amended, the National Aeronautics and Space Administration (NASA) announces a meeting of the Technology, Innovation and Engineering Committee of the NASA Advisory Council (NAC). This Committee reports to the NAC.

DATES: Monday, March 26, 2018, 9:00 a.m.-5:00 p.m., Eastern Time.

ADDRESSES: NASA Goddard Space Flight Center (GSFC), Building 34, Conference Room 120A, 8800 Greenbelt Road, Greenbelt, MD 20771.

FOR FURTHER INFORMATION CONTACT: Mr. Mike Green, Designated Federal Officer, Space Technology Mission Directorate, NASA Headquarters, Washington, DC 20546, (202) 358-4710, or g.m.green@nasa.gov.

SUPPLEMENTARY INFORMATION: The meeting will be open to the public up to the seating capacity of the room. This meeting is also available telephonically and by WebEx. You must use a touch-tone phone to participate in this meeting. Any interested person may dial the toll free access number 1-844-467-6272, and then the numeric participant passcode 102421 followed by the # sign. The WebEx link is https://nasa.webex.com/, the meeting number is 998 825 779, and the password is Technology18* (case sensitive). Note: If dialing in, please “mute” your telephone. The agenda for the meeting includes the following topics:

—Welcome to NASA Goddard Space Flight Center

—NASA Space Technology Mission Directorate Update and FY 2019 President's Budget Proposal

Attendees will be requested to sign a register and to comply with NASA security requirements. Visitors must show a valid state or federal issued picture ID, green card or passport before receiving an access badge to enter GSFC and must state that they are attending the NAC's Technology, Innovation and Engineering Committee meeting in Building 34. All U.S. citizens and Permanent Residents (green card holders) seeking to attend must provide their full name, company affiliation (if applicable) and citizenship to Ms. Anyah Dembling via email at anyah.dembling@nasa.gov or by telephone at (202) 358-5195 no later than close of business on March 15, 2018. Foreign Nationals must provide the following information: Full name, gender, date/place of birth, citizenship, home address, visa information (number, type, expiration date), passport information (number, country of issue, expiration date), employer/affiliation information (name of institution, title/position, address, country of employer, telephone, email address), and an electronically scanned or faxed copy of their passport and visa to Anyah Dembling via email at anyah.dembling@nasa.gov or by fax at (202) 358-4078 no later than close of business on March 7, 2018. If the above information is not received by the noted dates, attendees should expect a minimum delay of two (2) hours. All visitors to this meeting will report to the GSFC Main Gate where they will be processed through security prior to entering GSFC. For security questions on the day of the meeting, please contact Shawn Watts at (301) 286-5282 or shawn.g.watts@nasa.gov. It is imperative that this meeting be held on this day to accommodate the scheduling priorities of the key participants.

Patricia D. Rausch,
Advisory Committee Management Officer, National Aeronautics and Space Administration.

[FR Doc. 2018-04428 Filed 3-2-18; 8:45 am]

BILLING CODE 7510-13-P